DEPARTMENT OF THE INTERIOR

National Park Service

General Management Plan, Environmental Impact Statement, African Burial Ground National Monument, NY

AGENCY: National Park Service, Department of the Interior.

ACTION: Notice of intent to prepare a General Management Plan and Environmental Impact Statement, African Burial Ground National Monument.

SUMMARY: Pursuant to section 102(2)(C) of the National Environmental Policy Act (NEPA) of 1969, the National Park Service is preparing a General Management Plan and Environmental Impact Statement (GMP/EIS) for the African Burial Ground National Monument. The park comprises 0.35 acres, in Lower Manhattan, New York, NY.

Prepared by park staff and planners in the NPS Northeast Region, with assistance from advisors and consultants, the GMP/EIS will propose a long-term approach to managing the National Monument. Consistent with the site's purpose, NPS policy, and other laws and regulations, alternatives will be developed to guide the management of the monument over the next 15 to 20 years. The alternatives will incorporate various zoning and management prescriptions to ensure resource preservation and public appreciation of the site. The environmental consequences that could result from implementing the various alternatives will be evaluated for cultural and natural resources, visitor experience, park operations, the socioeconomic environment, impairment, and carrying capacity. Major issues to be explored include resource protection, visitor experience, administration and operation, partnerships, carrying capacity and potential boundary modifications.

The public will be invited to express views about the long-term management of the National Monument early in the process through public meetings and other media; and will have an opportunity to review and comment on a draft GMP/EIS.

ADDRESSES: Information related to ongoing public involvement opportunities will be provided online at http://www.nps.gov/afbg and http://parkplanning.nps.gov. Requests to be added to the project mailing list should be directed to Tara Morrison, Superintendent, at the addresses below.

FOR FURTHER INFORMATION CONTACT: Tara D. Morrison, Superintendent, African Burial Ground National Monument, 290 Broadway, 1st Floor, New York, NY, 10007, 212.637.3088.

Dated: December 11, 2007.
Dennis R. Reidenbach,
Regional Director, Northeast Region, National Park Service.

[FR Doc. E8-1542 Filed 1-28-08; 8:45 am]

BILLING CODE 4312-52-P